SUSQUEHANNA RIVER BASIN COMMISSION

Revocation of ABR Approvals

AGENCY: Susquehanna River Basin Commission.

ACTION: Notice.

SUMMARY: This notice lists the projects approved by rule by the Susquehanna River Basin Commission during the period set forth in DATES.

DATES: June 1-30, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, that have been revoked for the time period specified above:

Revocation of Approvals by Rule—Issued Under 18 CFR 806.22(f)

1. Chesapeake Appalachia, L.L.C.; Pad ID: Sophia; ABR-201106005.R1; Smithfield and Springville Townships, Bradford County, Pa.; Revocation Date: June 25, 2020.

2. Chesapeake Appalachia, L.L.C.; Pad ID: Sharidan; ABR-201112027.R1; Litchfield Township, Bradford County, Pa.; Revocation Date: June 25, 2020.

3. Repsol Oil & Gas USA, LLC.; Pad ID: COLE (03 016) T; ABR-20100549.R1; Columbia Township, Bradford County, Pa.; Revocation Date: June 26, 2020.

4. SWN Production Company, LLC.; Pad ID: TI-Kohler Pad; ABR-201601006; Liberty Township, Tioga County, Pa.; Revocation Date: June 26, 2020.

5. SWEPI LP.; Pad ID: State 822; ABR-201007040.R1; Gaines Township, Tioga County, Pa.; Revocation Date: June 26, 2020.

6. SWEPI LP.; Pad ID: Youst 405; ABR-201106026.R1; Jackson Township, Tioga County, Pa.; Revocation Date: June 26, 2020.

7. SWEPI LP.; Pad ID: Wilson 286; ABR-201203027.R1; Charleston Township, Tioga County, Pa.; Revocation Date: June 29, 2020.

8. SWEPI LP.; Pad ID: Jones 276; ABR-201201021.R1; Jackson Township, Tioga County, Pa.; Revocation Date: June 29, 2020.

9. SWEPI LP.; Pad ID: State 6721; ABR-20100440.R1; Elk Township, Tioga County, Pa.; Revocation Date: June 29, 2020.

Authority: Pub. L. 91-575, 84 Stat. 1509 et seq., 18 CFR parts 806, 807, and 808.

Dated: July 14, 2020.
Jason E. Oyler,
General Counsel and Secretary to the Commission.

[FR Doc. 2020-15518 Filed 7-16-20; 8:45 am]

BILLING CODE 7040-01-P